DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed extension collection of the following information collection: Notice of Issuance of Insurance Policy, CM-921. Copies of the proposed information collection request can be obtained by contacting the office listed below in the addressee section of this Notice.

DATES: Written comments must be submitted to the office listed in the addressee section below on or before December 26, 2000.

ADDRESSES: Ms. Patricia A. Forkel, U.S. Department of Labor, 200 Constitution Ave., NW., Room S-3201, Washington, DC 20210, telephone (202) 693-0339 (this is not a toll-free number), fax (202) 693-1451.

SUPPLEMENTARY INFORMATION:

I. Background

Section 423 of the Black Lung Benefits Act, as amended, specifies that a responsible coal mine operator must be insured for payment of black lung benefits and outlines the items each contract of insurance must contain. It enumerates the civil penalties to which a responsible coal mine operator is subject, should these procedures not be followed. Further, 20 CFR Ch. VI subpart C, 726.208-213 requires that each insurance carrier report to the Division of Coal Mine Workers' Compensation (DCMWC) each policy and endorsement issued, cancelled, or reviewed with respect to responsible operators, on such a form as DCMWC may require. The CM-921 is the form completed by the insurance carrier and forwarded to DCMWC for review.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to identify operators who have secured insurance for payment of black lung benefits as required by the Act.

Type of Review: Extension.

Agency: Employment Standards Administration.

Title: Notice of Issuance of Insurance Policy.

OMB Number: 1215-0059.

Agency Number: CM-921.

Affected Public: Business or other for-profit; State, Local or Tribal Government.

Total Respondents: 6/54.

Frequency: Annually.

Total Responses: 3,200/800.

Time per Response: 10 minutes.

Estimated Total Burden Hours: 667.

Total Burden Cost: (capital/startup): $0.

Total Burden Cost: (operating/maintenance): $1,640.

Comments submitted in response to this notice will be summarized and/or included in the request for Office of Management and Budget approval of the information collection request; they will also become a matter of public record.

Dated: October 20, 2000.
Margaret J. Sherrill,
Chief, Branch of Management Review and Internal Control, Division of Financial Management, Office of Management, Administration and Planning, Employment Standards Administration.

[FR Doc. 00-27565 Filed 10-25-00; 8:45 am]

BILLING CODE 4510-48-M